RAILROAD RETIREMENT BOARD

Proposed Collection; Comment Request

In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Evidence of Marital Relationship—Living with Requirements; OMB 3220-0021.

To support an application for a spouse or widow(er)'s annuity under Sections 2(c) or 2(d) (45 U.S.C. 231a) of the Railroad Retirement Act, an applicant must submit proof of a valid marriage to a railroad employee. In some cases, the existence of a marital relationship is not formalized by a civil or religious ceremony. In other cases, questions may arise about the legal termination of a prior marriage of the employee, spouse, or widow(er). In these instances, the RRB must secure additional information to resolve questionable marital relationships. The circumstances requiring an applicant to submit documentary evidence of marriage are prescribed in 20 CFR 219.30.

In the absence of documentary evidence, the RRB needs to determine if a valid marriage existed between a spouse or widow(er) annuity applicant and a railroad employee. The RRB utilizes Forms G-124, Individual Statement of Marital Relationship; G-124a, Certification of Marriage Information; G-237, Statement Regarding Marital Status; G-238, Statement of Residence; and G-238a, Statement Regarding Divorce or Annulment, to secure the needed information. Forms G-124, G-237, G-238, and G-238a can be completed either with assistance from RRB personnel during an in-office interview or by mail. One response is requested of each respondent. Completion is required to obtain benefits. The RRB proposes minor non-burden impacting changes to the forms in the collection.

Estimate of Annual Respondent Burden
Form No. | Annual responses | Time (minutes) | Burden (hours)
G-124 (in person) | 125 | 15 | 31
G-124 (by mail) | 75 | 20 | 25
G-124a | 300 | 10 | 50
G-237 (in person) | 75 | 15 | 19
G-237 (by mail) | 75 | 20 | 25
G-238 (in person) | 150 | 3 | 8
G-238 (by mail) | 150 | 5 | 13
G-238a | 150 | 10 | 25
Total | 1,100 |  | 196

2. Title and purpose of information collection: Application to Act as Representative Payee; OMB 3220-0052.

Under Section 12 of the Railroad Retirement Act (45 U.S.C. 231k), the Railroad Retirement Board (RRB) may pay benefits to a representative payee when an employee, spouse or survivor annuitant is incompetent or is a minor. A representative payee may be a court-appointed guardian, a statutory conservator or an individual selected by the RRB. The procedures pertaining to the appointment and responsibilities of a representative payee are prescribed in 20 CFR 266.

The forms furnished by the RRB to apply for representative payee status, and for securing the information needed to support the application follow. RRB Form AA-5, Application for Substitution of Payee, obtains information needed to determine the selection of a representative payee who will serve in the best interest of the beneficiary. RRB Form G-478, Statement Regarding Patient's Capability to Manage Benefits, obtains information about an annuitant's capability to manage their own benefits. The form is completed by the annuitant's personal physician or by a medical officer, if the annuitant is in an institution. It is not required when a court has appointed an individual or institution to manage the annuitant's funds or, in the absence of such appointment, when the annuitant is a minor. The RRB also provides representative payees with a booklet at the time of their appointment. The booklet, RRB Form RB-5, Your Duties as Representative Payee-Representative Payee's Record, advises representative payees of their responsibilities under 20 CFR 266.9 and provides a means for the representative payee to maintain records pertaining to the receipt and use of RRB benefits. The booklet is provided for the representative payee's convenience. The RRB also accepts records that are kept by representative payee's as part of a common business practice. Completion is voluntary. One response is requested of each respondent. The RRB proposes no changes to the forms in the collection.

Estimate of Annual Respondent Burden
Form No. | Annual responses | Time (minutes) | Burden (hours)
AA-5 | 3,000 | 18 | 900.0
Individuals | 2,250 |  | 675.0
Institutions | 750 |  | 225.0
G-478 | 2,000 | 6 | 200.0
RB-5 | 15,300 | 60 | 15,300
Individuals | 11,475 |  | 11,475
Institutions | 3,825 |  | 3,825
Total | 20,300 |  | 16,350

3. Title and purpose of information collection: Employer Service and Compensation Reports; OMB 3220-0070.

Section 2(c) of the Railroad Unemployment Insurance Act (RUIA) (45 U.S.C.352) specifies the maximum normal unemployment and sickness benefits that may be paid in a benefit year. Section 2(c) further provides for extended benefits for certain employees and for beginning a benefit year early for other employees. The conditions for these actions are prescribed in 20 CFR 302.

All information about creditable railroad service and compensation needed by the RRB to administer Section 2(c) is not always available from annual reports filed by railroad employers with the RRB (OMB 3220-0008). When this occurs, the RRB must obtain supplemental information about service and compensation.

The RRB utilizes Form UI-41, Supplemental Report of Service and Compensation, and Form UI-41a, Supplemental Report of Compensation, to obtain the additional information about service and compensation from railroad employers. Completion of the forms is mandatory. One response is required of each respondent. The RRB proposes minor non-burden impacting changes to Form UI-41a.

Estimate of Annual Respondent Burden
Form No. | Annual responses | Time (minutes)1/ | Burden (hours)
UI-41 | 100 | 8 | 13
UI-41a | 50 | 8 | 7
Total | 150 |  | 20

4. Title and purpose of information collection: Repayment of Debt; OMB 3220-0169.

Section 2 of the Railroad Retirement Act (RRA) (45 U.S.C. 231a) provides for payment of annuities to railroad employees who are retired due to age or disability and annuities or benefits to their eligible spouses, divorced spouses, and survivors. Section 2 of the Railroad Unemployment Insurance Act (RUIA) (45 U.S.C. 352) provides for the payment of benefits to qualified railroad employees who are unemployed, but willing and able to work, and railroad employees who are unable to work due to sickness or injury. When an overpayment of RRA or RUIA benefits has occurred, prompt action is initiated to notify the annuitant or beneficiary of the overpayment and the method by which the debt may be liquidated. The overpayment recovery methods available are cash refund by check, money order, debit card and withholding of annuities or benefits due.

Railroad Retirement Board (RRB) procedures pertaining to RRA annuity and benefit overpayment determinations and recovery are prescribed in 20 CFR part 255. RUIA procedures pertaining to benefit overpayment determinations are prescribed in 20 CFR part 340.

When a debt is owed on an RRA or RUIA-related debt, the RRB mails Form DRL-145, Debt Notice, to the debtor; a Form G-421, Repayment Method Form, for the debtor to indicate how they will repay the debt; a Form G-66 or G-66B, Your Rights to Review and/or Waiver, which explains what they can do if they disagree with the amount of the debt; and a Form G-66A or G-66BA, Rights Request Form, to request their right to have us review and/or waiver the debt. Completion of Form G-421F is voluntary. The RRB proposes minor non-burden impacting changes to Form G-421F.

Estimate of Annual Respondent Burden
Form No. | Annual responses | Time (minutes) | Burden (hours)
Form G-421F (RRA) activity | 360 | 5 | 30
Form G-421F (RUIA) activity | 175 | 5 | 15
Total | 535 |  | 45

5. Title and purpose of information collection: Customer Satisfaction Monitoring; OMB 3220-0192.

In accordance with Executive Order 12862, the Railroad Retirement Board (RRB) conducts a number of customer surveys designed to determine the kinds and quality of services our beneficiaries, claimants, employers and members of the public want and expect, as well as their satisfaction with existing RRB services. The information collected is used by RRB management to monitor customer satisfaction by determining to what extent services are satisfactory and where and to what extent services can be improved. The surveys are limited to data collections that solicit strictly voluntary opinions, and do not collect information which is required or regulated. The information collection, which was first approved by the Office of Management and Budget (OMB) in 1997, provides the RRB with a generic clearance authority. This generic authority allows the RRB to submit a variety of new or revised customer survey instruments (needed to timely implement customer monitoring activities) to the Office of Management and Budget (OMB) for expedited review and approval.

Estimate of Annual Respondent Burden
Form No. | Annual Responses | Time (minutes) | Burden (hours)
G-201 | 50 | 2 | 2
Web-Site Survey | 300 | 5 | 25
Periodic Survey | 1,020 | 12 | 204
Focus Groups | 250 | 120 | 500
Total | 1,620 |  | 731

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2019-19820 Filed 9-12-19; 8:45 am]

BILLING CODE 7905-01-P